DEPARTMENT OF HEALTH AND HUMAN SERVICES

Centers for Disease Control and Prevention

[30-Day-10-09AX]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

National Survey of U.S. Long-Haul Truck Driver Injury and Health—New—National Institute for Occupational Safety and Health (NIOSH), Centers for Disease Control and Prevention (CDC).

Background and Brief Description

The mission of the National Institute for Occupational Safety and Health (NIOSH) is to promote safety and health at work for all people through research and prevention. The Occupational Safety and Health Act of 1970, Public Law 91-596 (section 20(a)(1)) authorizes NIOSH to conduct research to advance the health and safety of workers. In this capacity, NIOSH will conduct a national survey of long-haul truck drivers.

Truck drivers are at increased risk for numerous preventable diseases and health conditions; previous research suggests that truck drivers are at increased risk for lower back pain, heart disease, hypertension, stomach ulcers, and cancers of the bladder, lung, prostate, and stomach. Truck drivers also face extraordinary risk of on-the-job mortality. In 2007, the fatality rate for “driver/sales workers and truck drivers” was 28.2 per 100,000 workers, compared with a rate of 3.8 per 100,000 for all workers. Drivers of heavy and tractor-trailer trucks had more fatal work injuries than any other single occupation (822 deaths in 2007).

Truck drivers experience high rates of occupational injury and illness, but little is known about the prevalence of factors suspected to place them at increased risk. Information is needed on the role of occupation in driver health and on mechanisms of driver injuries. In evaluating the potential health effects of the 2005 hours-of-service ruling, the Federal Motor Carrier Safety Administration stated that due to a lack of evidence specific to trucking operations, information from different fields had to be adapted to a trucking environment. Research needs cited by stakeholders include detailed data on the prevalence of selected health conditions and risk factors among truck drivers, and data on working conditions, injury causes and outcomes, and health behaviors.

NIOSH has obtained input on plans for this survey through stakeholder meetings, a webinar, an internet blog, and from comments received through NIOSH Docket 110 and during a focus group discussion with 7 truck drivers. The survey instrument has been reviewed by 6 subject matter experts and 9 cognitive interviews have been conducted using the survey instrument. Input received was used to guide development of the survey instrument and plans for survey implementation. Subjective data on understanding and phrasing of questions were collected during the focus group discussion and cognitive interviews.

The proposed national survey will be based upon a probability sample of truck stops. The survey will be conducted at locations along freight corridors in 5 geographic regions (Northeast, South, Great Lakes, Central, and West). The number of locations to be visited within each region will be related to the traffic load in that region. Eligible truck drivers stopping at selected truck stops will provide all survey data. The major objectives of the survey will be to: (1) Determine the prevalence of selected health conditions and risk factors; (2) characterize drivers' working conditions, occupational injuries, and health behaviors; (3) explore the associations among health status, individual risk factors, occupational injuries and occupational exposures related to work organization. The survey will eliminate significant gaps in occupational safety and health data for long-haul truck drivers. The results will assist regulatory agencies in focusing rulemaking, furnish industry and labor with safety and health information needed by their constituents, and stimulate future research and advocacy to benefit truck drivers.

The target population of drivers for this survey will be limited to drivers who: Have truck driving as their main job; drive a truck with 3 or more axles (requiring the driver to have a commercial driver's license); have been a heavy truck driver 12 months or longer; and who usually take at least one mandatory 10-hour rest period away from home during each delivery run.

The study instrument will be interviewer-administered to 2,457 eligible truck drivers at 50 truck stops. Individuals will first be asked a series of questions to determine if they are eligible to participate in the survey, followed by administration of the main interview. Individuals who do not wish to participate in the main interview will be given a short non-respondent interview. Respondents will not be asked to report names or any other identifying information.

The project supports the NIOSH surveillance function to advance the usefulness of surveillance information for the prevention of occupational injuries, illnesses, and hazards, and actively promote the dissemination and use of NIOSH surveillance data and information. This survey will allow NIOSH to explore the inter-relationships among dimensions of health status, individual risk factors, occupational injuries, sleep disorders, and occupational exposures. It will also provide detailed demographic data on long-haul truck drivers, which have not been available previously, and could provide baseline data to inform future cohort and prospective studies.

NIOSH will use the information to calculate prevalence and customize safety and health interventions for long-haul truck drivers. Once the study is completed, results will be made available via various means. There is no cost to respondents other than their time.

The total estimated annualized burden to respondents is 2,102 hours.

Annualized Estimated Burden Hours
Type of respondent | Form name | Number of respondents | Number of responses per respondent | Average burden per response (in hours)
Truck Drivers | Eligibility Screening Interview | 3500 | 1 | 2/60
| Non-respondent Interview | 560 | 1 | 2/60
| Main Interview | 2457 | 1 | 48/60

Dated: June 8, 2010.
Maryam I. Daneshvar,
Reports Clearance Officer, Centers for Disease Control and Prevention.

[FR Doc. 2010-14158 Filed 6-11-10; 8:45 am]

BILLING CODE 4163-18-P